ENVIRONMENTAL PROTECTION AGENCY

40 CFR Part 52

[KY-103-; KY-107-; KY-110-; KY-114-; KY-115-; KY-122-200203; FRL-7082-7]

Approval and Promulgation of Air Quality Implementation Plans; Kentucky; Approval of Revisions to State Implementation Plan; Revised Format for Materials Being Incorporated by Reference for Jefferson County, Kentucky

AGENCY: Environmental Protection Agency (EPA).

ACTION: Final rule.

SUMMARY: EPA is approving revisions to the Jefferson County portion of the Kentucky State Implementation Plan (SIP). The revisions were adopted by the Air Pollution Control District of Jefferson County (APCDJC) and submitted to EPA on February 3, 1998; September 22, 1998; February 11, 1999; May 21, 1999; July 20, 1999; and September 22, 2000, by the Commonwealth of Kentucky (Commonwealth) through the Kentucky Natural Resources and Environmental Protection Cabinet (KNREPC). These submittals include miscellaneous rule revisions and the recodification of APCDJC regulations.

EPA is also revising the format of 40 CFR part 52 for materials submitted by the Commonwealth that are incorporated by reference (IBR) into the Jefferson County portion of the Kentucky SIP. This format revision primarily affects the “Identification of plan” section of 40 CFR part 52, as well as the format of the SIP materials that will be available for public inspection at the Office of the Federal Register (OFR), the Air and Radiation Docket and Information Center located in Waterside Mall, Washington, DC, and the Regional Office. The sections of 40 CFR part 52 pertaining to provisions promulgated by EPA or State-submitted materials that are not subject to IBR remain unchanged.

EFFECTIVE DATE: This final rule is effective on November 23, 2001.

ADDRESSES: Copies of documents relative to this action are available for public inspection during normal business hours at the following locations:

U.S. Environmental Protection Agency; Region 4 Air Planning Branch; 61 Forsyth Street, SW; Atlanta, Georgia 30303-8960

Commonwealth of Kentucky, Natural Resources and Environmental Protection Cabinet; Division for Air Quality; 803 Schenkel Lane; Frankfort, Kentucky 40601-1403

Air Pollution Control District of Jefferson County; 850 Barrett Avenue; Louisville, Kentucky 40204

The interested persons wanting to examine these documents should make an appointment with the appropriate office at least 24 hours before the visiting day and reference files KY-103, KY-107, KY-110, KY-114, KY-115, KY-122. The Region 4 office may have additional background documents not available at the other locations.

FOR FURTHER INFORMATION CONTACT: Allison Humphris, Regulatory Development Section, Air Planning Branch, U.S. Environmental Protection Agency Region 4, 61 Forsyth Street, SW, Atlanta, Georgia 30303-8960, 404/562-9030, (humphris.allison@epa.gov).

SUPPLEMENTARY INFORMATION: The supplemental information is organized in the following order.

I. Rule Revisions Being Approved by EPA in This Action

II. Revised IBR Format for Jefferson County, Kentucky Being Approved by EPA in This Action

III. Final Action

IV. Administrative Requirements

I. Rule Revisions Being Approved by EPA in This Action

The Commonwealth, through KNREPC, submitted to EPA revisions to the Jefferson County portion of the Kentucky SIP, as adopted by APCDJC, on February 3, 1998, September 22, 1998, February 11, 1999, May 21, 1999, July 20, 1999 and September 22, 2000. The revisions include amendments and modifications of APCDJC regulations to ensure consistency with existing CAA and EPA requirements. The revisions also include a recodification that renumbers APCDJC rule sections to make the SIP less complex and corrects typographical errors, capitalization, spelling, and punctuation. Finally, today's action removes existing APCDJC regulations that do not need to be included in the SIP. Some of these regulations are no longer applicable because they have been moved to other portions of the Kentucky SIP, or because APCDJC submitted negative declarations verifying that there are no existing sources in Jefferson County subject to these rules. The remaining regulations removed were incorrectly approved into the Kentucky SIP (i.e. regulations that EPA does not enforce, or that EPA enforces pursuant to other parts of the Code of Federal Regulations).

On June 21, 2001 (66 FR 33216), EPA published a notice of proposed rulemaking (NPR) to approve the above revisions. That NPR provided for a public comment period ending on July 23, 2001. A detailed description of the SIP revisions and EPA's rationale for approving them was provided in the NPR and will not be restated here.

II. Revised IBR Format for Jefferson County, Kentucky Being Approved by EPA in This Action

In this final action, EPA is also revising the format of 40 CFR part 52 for materials submitted by the Commonwealth that are IBR into the Jefferson County portion of the Kentucky SIP. These revisions are consistent with the SIP compilation requirements of section 110(h)(1) of the Clean Air Act (CAA) and the May 22, 1997, (62 FR 27968) Federal Register, in which EPA revised the procedures for IBR federally-approved SIP regulations.

The new SIP compilation for Jefferson County will consist of two parts: the federally-approved portion of regulations and source-specific SIP revisions submitted by the Commonwealth. The table identifying federally-approved regulations is provided with this Federal Register. The table identifying source-specific SIP revisions will be provided at a later date. All of these regulations have been approved by EPA through previous rule making actions in the Federal Register, or are being approved in this action or other actions being published in today's Federal Register. Each part has a table of contents identifying each regulation or each source-specific SIP revision. The table of contents in the compilation corresponds to the table of contents published in 40 CFR part 52 for the Commonwealth. A copy of the full text of the Commonwealth's current compilation will also be maintained at the Office of Federal Register and EPA's Air Docket and Information Center.

By today's final action, EPA is also revising the organization of the “Identification of plan” section. The revised Identification of plan section will still contain five subsections: (a) Purpose and scope, (b) Incorporation by reference, (c) EPA approved regulations, (d) EPA-approved source specific requirements, and (e) EPA-approved nonregulatory provisions, such as transportation control measures, statutory provisions, control strategies, monitoring networks, etc. However, subsection (b) is being amended to include an EPA approval date for Jefferson County, Kentucky regulations, and subsection (c) is being amended to add a table for EPA-approved Jefferson County regulations for Kentucky. All revisions to the applicable SIP become federally enforceable as of the effective date of the revisions to paragraphs (c), (d) or (e) of the applicable identification of plan found in each subpart of 40 CFR part 52.

III. Final Action

EPA is approving revisions to the Jefferson County portion of the Kentucky SIP that were adopted by the APCDJC and submitted to EPA on February 3, 1998; September 22, 1998; February 11, 1999; May 21, 1999; July 20, 1999; and September 22, 2000 by the Commonwealth through KNREPC. EPA is partially approving revisions to APCDJC Regulation 2.04 Construction or Modification of Major Sources in or Impacting upon Non-Attainment Areas (Emission Offset Requirements). As described in detail in the NPR, EPA is taking no action on subsection 3.2 of this regulation regarding applicability of the offset requirement, because this language conflicts with existing EPA policy. EPA finds that Kentucky's submittals are otherwise fully approvable. EPA is also revising the format of 40 CFR part 52 for materials submitted by the Commonwealth that are IBR into the Jefferson County portion of the Kentucky SIP.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045 “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a major rule as defined by 5 U.S.C. section 804(2).

Under section 307(b)(1) of the CAA, petitions for judicial review of this action must be filed in the United States Court of Appeals for the appropriate circuit by December 24, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Hydrocarbons, Incorporation by reference, Intergovernmental relations, Lead, Nitrogen dioxide, Ozone, Particulate matter, Reporting and recordkeeping requirements, Sulfur oxides.

Dated: September 18, 2001.
A. Stanley Meiburg,
Acting Regional Administrator, Region 4.

Part 52 of chapter I, title 40, Code of Federal Regulations, is amended as follows:

PART 52—[AMENDED]

1. The authority for citation for part 52 continues to read as follows:

Authority: 42 U.S.C. 7401 et seq.

Subpart S—Kentucky

2. Section 52.920 is amended:

a. By revising paragraphs (b)(1) and (b)(2).

b. By adding a table to the end of paragraph (c).

The revision and addition read as follows:

§ 52.920 Identification of plan.

* * * * *

(b) * * * (1) Material listed in paragraph (c) of this section with an EPA approval date prior to March 1, 1999, for the Commonwealth of Kentucky (Volume I of the Kentucky State Implementation Plan) and November 23, 2001 for Jefferson County, Kentucky (Volume II of the Kentucky State Implementation Plan) was approved for incorporation by reference by the Director of the Federal Register in accordance with 5 U.S.C. 552(a) and 1 CFR part 51. Material is incorporated as it exists on the date of the approval, and notice of any change in the material will be published in the Federal Register. Entries in paragraph (c) of this section with EPA approval dates after March 1, 1999, for the Commonwealth of Kentucky and November 23, 2001 for Jefferson County, Kentucky will be incorporated by reference in the next update to the SIP compilation.

(2) EPA Region 4 certifies that the rules/regulations provided by EPA in the SIP Compilation at the addresses in paragraph (b)(3) of this section are an exact duplicate of the officially promulgated State rules/regulations which have been approved as part of the State Implementation Plan as of March 1, 1999, for the Commonwealth of Kentucky (Volume I) and November 23, 2001 for Jefferson County, Kentucky (Volume II).

* * * * *

(c) * * *

EPA—Approved Jefferson County Regulations for Kentucky
Reg | Title/subject | EPA approval date | Federal Register notice | District effective date
Reg 1 | General Provisions
1.01 | General Application of Regulations and Standards | 11/23/01 | 66 FR 53660 | 03/17/99
1.02 | Definitions | 11/23/01 | 66 FR 53660 | 11/19/97
1.03 | Abbreviations and Acronyms | 11/23/01 | 66 FR 53660 | 09/25/96
1.04 | Performance Tests | 11/23/01 | 66 FR 53660 | 11/19/97
1.05 | Compliance with Emission Standards and Maintenance Requirements | 11/23/01 | 66 FR 53660 | 11/18/92
1.06 | Source Self-Monitoring and Reporting | 11/23/01 | 66 FR 53660 | 12/15/93
1.07 | Emissions During Startups, Shutdowns, Malfunctions and Emergencies | 11/23/01 | 66 FR 53660 | 01/17/96
1.08 | Administrative Procedures | 11/23/01 | 66 FR 53660 | 09/25/96
1.09 | Prohibition of Air Pollution | 11/23/01 | 66 FR 53660 | 11/16/83
1.10 | Circumvention | 11/23/01 | 66 FR 53660 | 04/19/72
1.11 | Control of Open Burning | 11/23/01 | 66 FR 53660 | 02/22/90
1.14 | Control of Fugitive Particulate Emissions | 11/23/01 | 66 FR 53660 | 01/20/88
Reg 2 | Permit Requirements
2.01 | General Application | 11/23/01 | 66 FR 53660 | 4/21/82
2.02 | Air Pollution Regulation Requirements and Exemptions | 11/23/01 | 66 FR 53660 | 6/21/95
2.03 | Permit Requirements, Non-Title V Construction and Operating Permits and Demolition/Renovation Permits | 11/23/01 | 66 FR 53660 | 12/15/93
2.04 | Construction or Modification of Major Sources in or Impacting Upon Non-Attainment Areas (Emission Offset Requirements) | 11/23/01 | 66 FR 53660 | 3/17/93
2.05 | Prevention of Significant Deterioration of Air Quality | 11/13/89 | 54 FR 47210 | 4/19/89
2.06 | Permit Requirements—Other Sources | 11/23/01 | 66 FR 53660 | 11/16/83
2.07 | Public Notification for Title V, PSD, and Offset Permits; SIP Revisions; and Use of Emission Reduction Credits | 11/23/01 | 66 FR 53660 | 6/21/95
2.09 | Causes for Permit Suspension | 11/23/01 | 66 FR 53660 | 6/13/79
2.10 | Stack Height Considerations | 11/23/01 | 66 FR 53660 | 7/19/89
2.11 | Air Quality Model Usage | 11/23/01 | 66 FR 53660 | 5/19/99
2.17 | Federally Enforceable District Origin Operating Permits | 02/15/00 | 65 FR 7437 | 6/21/95
Reg 3 | Ambient Air Quality Standards
3.01 | Purpose of Standards and Expression of Non-Degradation Intention | 11/23/01 | 66 FR 53660 | 6/13/79
3.02 | Applicability of Ambient Air Quality Standards | 11/23/01 | 66 FR 53660 | 6/13/79
3.03 | Definitions | 11/23/01 | 66 FR 53660 | 6/13/79
3.04 | Ambient Air Quality Standards | 11/23/01 | 66 FR 53660 | 4/20/88
3.05 | Methods of Measurement | 11/23/01 | 66 FR 53660 | 4/20/88
Reg 4 | Emergency Episodes
4.01 | General Provisions for Emergency Episodes | 11/23/01 | 66 FR 53660 | 6/13/79
4.02 | Episode Criteria | 11/23/01 | 66 FR 53660 | 4/20/88
4.03 | General Abatement Requirements | 11/23/01 | 66 FR 53660 | 2/16/83
4.04 | Particulate and Sulfur Dioxide Reduction Requirements | 11/23/01 | 66 FR 53660 | 4/19/72
4.05 | Hydrocarbon and Nitrogen Oxides Reduction Requirements | 11/23/01 | 66 FR 53660 | 2/16/83
4.06 | Carbon Monoxide Reduction Requirements | 11/23/01 | 66 FR 53660 | 2/16/83
4.07 | Episode Reporting Requirements | 11/23/01 | 66 FR 53660 | 6/13/79
Reg 6 | Standards of Performance for Existing Affected Facilities
6.01 | General Provisions | 11/23/01 | 66 FR 53660 | 11/16/83
6.02 | Emission Monitoring for Existing Sources | 11/23/01 | 66 FR 53660 | 11/16/83
6.07 | Standards of Performance for Existing Indirect Heat Exchangers | 11/23/01 | 66 FR 53660 | 6/13/79
6.08 | Standard of Performance for Existing Incinerators | 11/23/01 | 66 FR 53660 | 6/13/79
6.09 | Standards of Performance for Existing Process Operations | 11/23/01 | 66 FR 53660 | 3/17/99
6.10 | Standard of Performance for Existing Process Gas Streams | 11/23/01 | 66 FR 53660 | 11/16/83
6.12 | Standard of Performance for Existing Asphalt Paving Operations | 11/23/01 | 66 FR 53661 | 5/15/91
6.13 | Standard of Performance for Existing Storage Vessels for Volatile Organic Compounds | 11/23/01 | 66 FR 53661 | 5/15/91
6.14 | Standard of Performance for Selected Existing Petroleum Refining Processes and Equipment | 11/23/01 | 66 FR 53661 | 4/21/82
6.15 | Standard of Performance for Gasoline Transfer to Existing Service Station Storage Tanks (Stage I Vapor Recovery) | 01/25/80 | 45 FR 6092 | 6/13/79
6.16 | Standard of Performance for Existing Large Appliance Surface Coating Operations | 11/23/01 | 66 FR 53661 | 5/15/91
6.17 | Standard of Performance for Existing Automobile and Truck Surface Coating Operations | 11/23/01 | 66 FR 53661 | 11/18/92
6.18 | Standards of Performance for Existing Solvent Metal Cleaning Equipment | 11/23/01 | 66 FR 53661 | 5/15/91
6.19 | Standard of Performance for Existing Metal Furniture Surface Coating Operations | 11/23/01 | 66 FR 53661 | 5/15/91
6.20 | Standard of Performance for Existing Bulk Gasoline Plants | 11/23/01 | 66 FR 53661 | 11/16/83
6.21 | Standard of Performance for Existing Gasoline Loading Facilities at Bulk Terminals | 11/23/01 | 66 FR 53661 | 11/16/83
6.22 | Standard of Performance for Existing Volatile Organic Materials Loading Facilities | 11/23/01 | 66 FR 53661 | 3/17/93
6.24 | Standard of Performance for Existing Sources Using Organic Materials | 11/23/01 | 66 FR 53661 | 3/17/93
6.26 | Standards of Performance for Existing Volatile Organic Compound Water Separators | 11/23/01 | 66 FR 53661 | 6/13/79
6.27 | Standards of Performance For Existing Liquid Waste Incinerators | 11/23/01 | 66 FR 53661 | 6/13/79
6.28 | Standard of Performance for Existing Hot Air Aluminum Atomization Processes | 11/23/01 | 66 FR 53661 | 3/18/81
6.29 | Standard of Performance for Existing Graphic Arts Facilities Using Rotogravure and Flexography | 11/23/01 | 66 FR 53661 | 5/15/91
6.30 | Standard of Performance for Existing Factory Surface Coating Operations of Flat Wood Paneling | 11/23/01 | 66 FR 53661 | 5/15/91
6.31 | Standard of Performance for Existing Miscellaneous Metal Parts and Products Surface-Coating Operations | 11/23/01 | 66 FR 53661 | 4/23/96
6.32 | Standard of Performance for Leaks from Existing Petroleum Refinery Equipment | 11/23/01 | 66 FR 53661 | 5/15/91
6.33 | Standard of Performance for Existing Synthesized Pharmaceutical Product Manufacturing Operations | 11/23/01 | 66 FR 53661 | 5/15/91
6.34 | Standard of Performance for Existing Pneumatic Rubber Tire Manufacturing Plants | 11/23/01 | 66 FR 53661 | 5/15/91
6.35 | Standard of Performance for Existing Fabric, Vinyl and Paper Surface Coating Operations | 11/23/01 | 66 FR 53661 | 5/15/91
6.38 | Standard of Performance for Existing Air Oxidation Processes in Synthetic Organic Chemical Manufacturing Industries | 11/23/01 | 66 FR 53661 | 12/17/86
6.39 | Standard of Performance for Equipment Leaks of Volatile Organic Compounds in Existing Synthetic Organic Chemical and Polymer Manufacturing Plants | 11/23/01 | 66 FR 53661 | 7/17/96
6.40 | Standards of Performance for Gasoline Transfer to Motor Vehicles (Stage II Vapor Recovery and Control) | 11/23/01 | 66 FR 53661 | 8/18/93
6.42 | Reasonably Available Control Technology Requirements for Major Volatile Organic Compound- and Nitrogen Oxides-Emitting Facilities | 11/23/01 | 66 FR 53661 | 3/17/99
6.44 | Standards of Performance for Existing Commercial Motor Vehicle and Mobile Equipment Refinishing Operations | 11/23/01 | 66 FR 53661 | 9/20/95
6.46 | Standards of Performance for Existing Ferroalloy and Calcium Carbide Production Facilities | 11/23/01 | 66 FR 53661 | 12/21/94
6.48 | Standard of Performance for Existing Bakery Oven Operations | 11/23/01 | 66 FR 53661 | 7/19/95
Reg 7 | Standards of Performance for New Affected Facilities
7.01 | General Provisions | 11/23/01 | 66 FR 53661 | 5/17/00
7.06 | Standards of Performance for New Indirect Heat Exchangers | 11/23/01 | 66 FR 53661 | 4/21/82
7.07 | Standard of Performance for New Incinerators | 11/23/01 | 66 FR 53661 | 9/15/93
7.08 | Standards of Performance for New Process Operations | 11/23/01 | 66 FR 53661 | 3/17/99
7.09 | Standards of Performance for New Process Gas Streams | 11/23/01 | 66 FR 53661 | 6/18/97
7.11 | Standard of Performance for New Asphalt Paving Operations | 11/23/01 | 66 FR 53661 | 5/15/91
7.12 | Standard of Performance for New Storage Vessels for Volatile Organic Compounds | 11/23/01 | 66 FR 53661 | 5/15/91
7.14 | Standard of Performance for Selected New Petroleum Refining Processes and Equipment | 11/23/01 | 66 FR 53661 | 6/13/79
7.15 | Standards of Performance for Gasoline Transfer to New Service Station Storage Tanks (Stage I Vapor Recovery) | 11/23/01 | 66 FR 53662 | 4/20/88
7.18 | Standards of Performance for New Solvent Metal Cleaning Equipment | 11/23/01 | 66 FR 53662 | 5/15/91
7.20 | Standard of Performance for New Gasoline Loading Facilities at Bulk Plants | 11/23/01 | 66 FR 53662 | 11/16/83
7.22 | Standard of Performance for New Volatile Organic Materials Loading Facilities | 11/23/01 | 66 FR 53662 | 3/17/93
7.25 | Standard of Performance for New Sources Using Volatile Organic Compounds | 11/23/01 | 66 FR 53662 | 3/17/93
7.34 | Standard of Performance for New Sulfite Pulp Mills | 11/23/01 | 66 FR 53662 | 6/13/79
7.35 | Standard of Performance for New Ethylene Producing Plants | 11/23/01 | 66 FR 53662 | 6/13/79
7.36 | Standard of Performance for New Volatile Organic Compound Water Separators | 11/23/01 | 66 FR 53662 | 6/13/79
7.51 | Standard of Performance for New Liquid Waste Incinerators | 11/23/01 | 66 FR 53662 | 1/20/88
7.52 | Standard of Performance for New Fabric, Vinyl, and Paper Surface Coating Operations | 11/23/01 | 66 FR 53662 | 5/15/91
7.55 | Standard of Performance for New Insulation of Magnet Wire | 11/23/01 | 66 FR 53662 | 3/17/93
7.56 | Standard of Performance for Leaks from New Petroleum Refinery Equipment | 11/23/01 | 66 FR 53662 | 5/15/91
7.57 | Standard of Performance for New Graphic Arts Facilities Using Rotogravure and Flexography | 11/23/01 | 66 FR 53662 | 5/15/91
7.58 | Standard of Performance for New Factory Surface Coating Operations of Flat Wood Paneling | 11/23/01 | 66 FR 53662 | 5/15/91
7.59 | Standard of Performance for New Miscellaneous Metal Parts and Products Surface Coating Operations | 11/23/01 | 66 FR 53662 | 4/23/96
7.60 | Standard of Performance for New Synthesized Pharmaceutical Product Manufacturing Operations | 11/23/01 | 66 FR 53662 | 5/15/91
7.77 | Standards of Performance for New Blast Furnace Casthouses | 11/23/01 | 66 FR 53662 | 10/20/93
7.81 | Standard of Performance for New or Modified Bakery Oven Operations | 11/23/01 | 66 FR 53662 | 5/17/00
Reg 8 | Mobile Source Emissions Control
8.01 | Mobile Source Emissions Control Requirements | 11/23/01 | 66 FR 53662 | 7/14/00
8.02 | Vehicle Emissions Testing Procedure | 11/23/01 | 66 FR 53662 | 7/14/00
8.03 | Commuter Vehicle Testing Requirements | 07/28/95 | 60 FR 3870 | 3/1/93

* * * * *

[FR Doc. 01-25892 Filed 10-22-01; 8:45 am]

BILLING CODE 6560-50-P